FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 011666-006.

Agreement Name: West Coast North America/Pacific Islands Vessel Sharing Agreement.

Parties: Maersk Line A/S and The China Navigation Co. Pte. Ltd.

Filing Party: Wayne Rohde; Cozen O'Connor.

Synopsis: The amendment deletes Hamburg Sud as a party to the Agreement and replaces it with Maersk Line A/S. It also replaces Article 12 of the Agreement.

Proposed Effective Date: 4/14/2019.

Location: https://www2.fmc.gov/FMC.Agreements.Web/Public/AgreementHistory/795.

Dated: March 4, 2019.
Rachel Dickon,
Secretary.

[FR Doc. 2019-04169 Filed 3-7-19; 8:45 am]

BILLING CODE 6731-AA-P